DEPARTMENT OF TRANSPORTATION

Federal Aviation Administration

14 CFR Part 71

[Docket No. FAA-2026-0534; Airspace Docket No. 26-ASO-2]

RIN 2120-AA66

Amendment of Class E Airspace; Covington, KY

AGENCY: Federal Aviation Administration (FAA), DOT.

ACTION: Notice of proposed rulemaking (NPRM); correction; extension of comment period.

SUMMARY: The FAA is correcting an NPRM published in the Federal Register on January 20, 2026, proposing to amend Class E airspace at Covington, KY. Subsequent to publication, it was discovered that the NPRM was published with the wrong airspace docket number used in two instances. This action corrects those typographic errors.

DATES: The comment period is extended. Comments must be received on or before March 30, 2026.

ADDRESSES: Send comments identified by FAA Docket No. FAA-2026-0534 and Airspace Docket No. 26-ASO-2 using any of the following methods:

* Federal eRulemaking Portal: Go to www.regulations.gov and follow the online instruction for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Background

The FAA published an NPRM in the Federal Register (91 FR 2321; January 20, 2026), proposing to amend Class E airspace at Covington, KY. Subsequent to publication, the FAA discovered that the NPRM was published with the wrong airspace docket number in two instances. This action corrects those typographic errors.

Correction

The FAA is correcting Federal Register Doc. No. 2026-00934, published in the Federal Register on January 20, 2026 (91 FR 2321), as follows:

1. On page 2321, column 3, within the header for the document, replace “Docket No. 26-AGL-2” with “Docket No. 26-ASO-2”.

2. On page 2321, column 3, within the ADDRESSES section, replace “Airspace Docket No. 26-AGL-2” with “Airspace Docket No. 26-ASO-2”.

Issued in Fort Worth, Texas, on February 5, 2026.
Courtney E. Johns,
Acting Manager, Operations Support Group, ATO Central Service Center.

[FR Doc. 2026-02692 Filed 2-10-26; 8:45 am]

BILLING CODE 4910-13-P